DEPARTMENT OF ENERGY

Federal Energy Regulatory Commission

Notice of Application Accepted for Filing, Soliciting Motions To Intervene and Protests, and Soliciting Comments, and Final Recommendations, Terms and Conditions, and Prescriptions

November 25, 2002.

Take notice that the following hydroelectric application has been filed with the Commission and is available for public inspection.

a. Type of Application: New Major License.

b. Project No.: 2009-018.

c. Date filed: January 28, 1999.

d. Applicant: Dominion Generation.

e. Name of Project: Roanoke Rapids and Gaston Hydropower Project.

f. Location: On the Roanoke River, near the Town of Roanoke Rapids, North Carolina. The project is located in Brunswick County and Mecklenburg County Virginia, and Northampton County, Halifax County, and Warren County, North Carolina. No federal lands are occupied by the project works or located within the project boundary.

g. Filed Pursuant to: Federal Power Act 16 U.S.C. 791 (a)-825(r).

h. Applicant Contact: Mr. Jim Thornton, Dominion Generation, 500 Dominion Blvd., Glenn Allen, VA 23060, telephone 804-273-3257.

i. FERC Contact: Ron McKitrick, telephone 770-452-3778, or e-mail ronald.mckitrick@ferc.gov.

j. This application has been accepted for filing and is now ready for environmental analysis.

k. Deadline for filing motions to intervene and protests, comments, and final recommendations, terms and conditions, and prescriptions: 60 days from the issuance of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and prescriptions may be filed electronically via the Internet in lieu of paper. The Commission strongly encourages electronic filings. See 18 CFR 385.2001(a)(1)(iii) and the instructions on the Commission's Web site http://www.ferc.gov under the “e-Filing” link.

l. Description of the Project: The Project consists of the Gaston Development and Roanoke Rapids Development located on the Roanoke River, immediately downstream from the John H. Kerr Dam and Reservoir operated by the U.S. Army Corps of Engineers.

The Gaston Development is located 34 miles downstream of Kerr Dam at river mile 145.5, and consists of: (1) A 3,600-foot-long and 105-foot-high concrete and earth dam; (2) a 550-foot-long concrete ogee spillway with 11 steel radial gates 40 feet wide by 38 feet high; (3) a 34-mile-long reservoir with a total volume of 450,000 acre-feet and surface area of 20,300 acres at a water surface elevation of 200 feet mean sea level; (4) a concrete and masonry powerhouse, service bay, and unloading bay, about 425 feet long; (6) 4 turbines (3 vertical shaft fixed blade and 1 vertical shaft Kaplan turbine) with a total installed capacity of 225 megawatts, and a maximum hydraulic capacity of 44,000 cfs, producing an average of 336,362 megawatt hours annually, and a maximum dependable capacity of 225 MWH; and (7) four 14.4-kV generators connected to two 230-kilovolt transformers; and other appurtenances.

The Roanoke Rapids Development is located 42 miles downstream of Kerr Dam at river mile 138, and consists of: (1) A 3,050-foot-long and 72-foot-high concrete gravity dam; (2) a 1,133-foot-long concrete ogee spillway with 24 spillway bays each 44 feet wide with steel gates 38 feet wide, and one skimmer bay 25 feet wide; (3) an 8-mile-long reservoir with a total volume of 77,140 acre-feet and surface area of 4,600 acres at a water surface elevation of 132 feet mean sea level; (4) a concrete and masonry powerhouse and service bay about 406 feet long; (6) 4 Kaplan turbines with a total installed capacity of 104 megawatts, and a maximum hydraulic capacity of 20,000 cfs, producing an average of 336,408 megawatt hours annually, and a maximum dependable capacity of 99 MWH; and (7) four 14.4-kV generators connected to two 110-kilovolt transformers; and other appurtenances.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

The Commission directs, pursuant to section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

Magalie R. Salas,
Secretary.

[FR Doc. 02-30516 Filed 11-29-02; 8:45 am]

BILLING CODE 6717-01-P